DEPARTMENT OF COMMERCE

Foreign-Trade Zones Board

[B-42-2022]

Foreign-Trade Zone (FTZ) 153—San Diego, California, Notification of Proposed Production Activity, Ajinomoto Bio-Pharma Services (Pharmaceutical Products), San Diego, California

The City of San Diego, grantee of FTZ 153, submitted a notification of proposed production activity to the FTZ Board (the Board) on behalf of Ajinomoto Bio-Pharma Services, located in San Diego, California under FTZ 153. The notification conforming to the requirements of the Board's regulations (15 CFR 400.22) was received on September 7, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is yusimry—(active pharmaceutical ingredient (API) substance and packaging into measured doses in vials and/or syringes) (duty-free).

The proposed foreign-status material and component is yusimry API substance (duty-free).

Public comment is invited from interested parties. Submissions shall be addressed to the Board's Executive Secretary and sent to: ftz@trade.gov. The closing period for their receipt is October 25, 2022.

A copy of the notification will be available for public inspection in the “Online FTZ Information System” section of the Board's website.

For further information, contact Christopher Wedderburn at Chris.Wedderburn@trade.gov.

Dated: September 9, 2022.
Elizabeth Whiteman,
Acting Executive Secretary.

[FR Doc. 2022-19897 Filed 9-14-22; 8:45 am]

BILLING CODE 3510-DS-P